DEPARTMENT OF TRANSPORTATION

Federal Railroad Administration

Petition for Waivers of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

WATCO Companies, Inc.

[Docket Number FRA-2001-10593]

WATCO Companies, Inc., (WATCO) has petitioned the FRA for a waiver of compliance from certain provisions of the Safety Glazing Standards (49 CFR part 223) for one locomotive, WAMX 804, which is operated at National Starch & Chemical, 1515 Drover Street, Indianapolis, Indiana 46221.

Locomotive WAMX 804 is covered by 49 CFR part 223.1 which states: 223.1 Scope. “This part provides minimum requirements for glazing materials in order to protect railroad employees and railroad passengers from injury as a result of objects striking the windows of locomotives, caboose and passenger cars.”

Locomotive WAMX 804 is operated by WATCO Companies, Inc., Switching Services in an industrial/plant switching operation. The locomotive operates in two areas of speed restriction, one at 5 mph and one at 10 mph. WATCO Companies, Inc., advises that all broken or damaged glazing will be replaced by FRA approved glazing material.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number, (e.g., Docket Number FRA-2001-10593) and must be submitted to the DOT Docket Management Facility, Room PL-401 (Plaza Level), 400 Seventh Street, SW, Washington, DC 20590. Communications received within 45 days from the date of this notice will be considered by FRA before final action is taken. Comments received after that date will be considered as far as practical. All written communications concerning these proceedings are available for examination during regular business hours (9 a.m.-5 p.m.) at the above facility. All documents in the public docket are also available for inspection and copying on the Internet at the docket facility's web site at http://dms.dot.gov.

Issued in Washington, D.C. on January 2, 2002.
Grady C. Cothen, Jr.,
Deputy Associate Administrator for Safety Standards and Program Development.

[FR Doc. 02-314 Filed 1-4-02; 8:45 am]

BILLING CODE 4910-06-P